DEPARTMENT OF COMMERCE

Bureau of Industry and Security

15 CFR Part 744

[Docket No. 221201-0257]

RIN 0694-AI96

Additions of Entities to the Entity List; Removal of an Entity From the Entity List

AGENCY: Bureau of Industry and Security, Department of Commerce.

ACTION: Final rule.

SUMMARY: The Department of Commerce is amending the Export Administration Regulations (EAR) by adding twenty-four entities under twenty-six entries to the Entity List. These entities have been determined by the U.S. Government to be acting contrary to the national security or foreign policy interests of the United States and will be listed on the Entity List under the destinations of Latvia, Pakistan, Russia, Singapore, Switzerland, and the United Arab Emirates (U.A.E.). In addition, this final rule removes from the Entity List one entity listed in three entries under Oman, Saudi Arabia, and the U.A.E.

DATES: This rule is effective December 8, 2022.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC has determined to add Fiber Optic Solutions under the destination of Latvia, and AO Kraftway Corporation PSC, AO Scientific Research Center for Electronic Computing, LLC Fibersense, and Scientific Production Company Optolink under the destination of Russia to the Entity List based on information that these companies significantly contribute to Russia's military and/or defense industrial base. In addition, the ERC determined to add AO PKK Milandr; Milandr EK OOO; Milandr ICC JSC; Milur IS, OOO; (OOO) Microelectronic Production Complex (MPK) Milandr; and Ruselectronics JSC under the destination of Russia and Milur SA under the destination of Switzerland to the Entity List due to their contributions to the Russian military and/or defense industrial base. The activity of these entities is contrary to the national security and foreign policy interests of the United States under §§ 744.11 and 744.21 of the EAR. These entities will receive a footnote 3 designation because the ERC has determined that they are Russian or Belarusian `military end users' in accordance with § 744.21. A footnote 3 designation subjects these entities to the Russia/Belarus-Military End User Foreign Direct Product (FDP) rule, detailed in § 734.9(g). These entities are added with a license requirement for all items subject to the EAR. They are added with a license review policy of denial for all items subject to the EAR other than food and medicine designated as EAR99, license applications for which will be reviewed on a case-by-case basis.

The ERC determined to add Falcon Trading International Trading Company, Hawk Electronic Supply, Merlin Trading Company, and Pulse Tech International Company under the destination of Singapore based on their actions and activities that are contrary to the national security and foreign policy interests of the United States. Specifically, these companies have supplied and/or attempted to supply items subject to the EAR to Pardazan System Namad Arman (PASNA), an entity located in Iran designated by the U.S. Department of the Treasury's Office of Foreign Assets Control (OFAC) as a Specially Designated National (SDN). For these four entities added to the Entity List, BIS imposes a license requirement for all items subject to the EAR and will review license applications under a presumption of denial.

The ERC determined to add Dynamic Engineering Corporation to the Entity List because it poses an unacceptable risk of using or diverting items subject to the EAR for Pakistan's unsafeguarded nuclear activities, contrary to the national security and foreign policy interests of the United States. The ERC determined to add Rainbow Solutions, under the destination of Pakistan, based on its involvement in unsafeguarded nuclear activities and missile proliferation-related activities that are contrary to the national security and foreign policy of the United States. The ERC determined to add EnerQuip Private, Ltd., and Universal Drilling Engineers under the destination of Pakistan and Enerquip Limited (UAE) under the destination of the U.A.E. to the Entity List based on their contributions to unsafeguarded nuclear activities and missile proliferation-related activities. The ERC determined to add NAR Technologies General Trading LLC and TROJANS to the Entity List under the destinations of Pakistan and the U.A.E., based on their actions and activities that are contrary to the national security and foreign policy interests of the United States. Specifically, these companies have supplied and/or attempted to supply items subject to the EAR to Pakistan's unsafeguarded nuclear activities and ballistic missile program. The ERC determined to add Zain Enterprises FZE, under the destination of U.A.E., based on its involvement in unsafeguarded nuclear activities and missile proliferation-related activities that are contrary to the national security and foreign policy of the United States. For these eight entities under ten entries, BIS imposes a license requirement for all items subject to the EAR and will review license applications in accordance with §§ 744.2(d) and/or 744.3(d).

For the reasons described above, this final rule adds the following twenty-four entities under twenty-six entries to the Entity List and includes, where appropriate, aliases:

Latvia

• Fiber Optic Solutions.

Pakistan

• Dynamic Engineering Corporation,

• EnerQuip Private, Ltd.,

• NAR Technologies General Trading LLC,

• Rainbow Solutions,

• TROJANS, and

• Universal Drilling Engineers.

Russia

• AO Kraftway Corporation PSC,

• AO PKK Milandr,

• AO Scientific Research Center for Electronic Computing,

• LLC Fibersense,

• Milandr EK OOO,

• Milandr ICC JSC,

• Milur IS, OOO,

• (OOO) Microelectronic Production Complex (MPK) Milandr,

• Ruselectronics JSC, and

• Scientific Production Company Optolink.

Singapore

• Falcon International Trading Company,

• Hawk Electronic Supply Company,

• Merlin Trading Company, and

• Pulse Tech International Company.

Switzerland

• Milur SA.

United Arab Emirates

• Enerquip Ltd. (UAE),

• NAR Technologies General Trading LLC,

• TROJANS; and

• Zain Enterprises FZE.

Removals From the Entity List

This rule implements a decision of the ERC to remove one entity listed under three entries from the Entity List. The ERC determined to remove Safe Technical Supply Co., LLC from the Entity List based on information that BIS received pursuant to § 744.16(e) of the EAR and the review the ERC conducted in accordance with procedures described in supplement no. 5 to part 744 of the EAR. Prior to removal from the Entity List by this rule, Safe Technical Supply Co., LLC was listed under Oman, Saudi Arabia, and the U.A.E.

Savings Clause

For the changes being made in this final rule, shipments of items removed from eligibility for a License Exception or export, reexport, or transfer (in-country) without a license (NLR) as a result of this regulatory action that were en route aboard a carrier to a port of export, reexport, or transfer (in-country), on December 8, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Supplement No. 4 to part 744 is amended by:

a. Under LATVIA, adding in alphabetical order, an entry for “Fiber Optic Solutions”;

b. Under OMAN, removing the entry for “Safe Technical Supply Co., LLC”;

c. Under PAKISTAN, adding, in alphabetical order, entries for “Dynamic Engineering Corporation;” “Enerquip Private, Ltd.;” “NAR Technologies General Trading LLC;” “Rainbow Solutions;” “TROJANS;” and “Universal Drilling Engineers”;

d. Under RUSSIA, adding, in alphabetical order, entries for “AO Kraftway Corporation PSC;” “AO PKK Milandr;” “AO Scientific Research Center for Electronic Computing;” “LLC Fibersense;” “Milandr EK OOO;” “Milandr ICC JSC;” “Milur IS, OOO;” “(OOO) Microelectronic Production Complex (MPK) Milandr;” “Ruselectronics JSC;”and “Scientific Production Company Optolink”;

e. Under SINGAPORE, adding, in alphabetical order, entries for “Falcon International Trading Company;” “Hawk Electronic Supply Company;” “Merlin Trading Company;” and “Pulse Tech International Company”;

f. Under SAUDI ARABIA, removing the entry for “Safe Technical Supply Co., LLC”;

g. Under SWITZERLAND adding, in alphabetical order, an entry for “Milur SA”; and

h. Under UNITED ARAB EMIRATES, by:

i. Adding in alphabetical order, entries for “Enerquip Ltd. (UAE)” and “NAR Technologies General Trading LLC”;

ii. Removing the entry for “Safe Technical Supply Co., LLC;” and

iii. Adding in alphabetical order, entries for “TROJANS” and “Zain Enterprises FZE”.

The additions read as follows:

Supplement No. 4 to Part 744—Entity List

* * * * *

Country | Entity | License requirement | License review policy | Federal Register citation
* * * * * * *
LATVIA | * * * * * *
| Fiber Optic Solutions, a.k.a., the following one alias: —Fiber Optical Solutions. Podraga Street 2a, LV-1007, Riga, Latvia. | For all items subject to the EAR. (See §§ 734.9(g),³ 744.21(b) and 746.8(a)(3) of the EAR) | Policy of denial for all items subject to the EAR apart from food and medicine designated as EAR99, which will be reviewed on a case-by-case basis. See §§ 746.8(b) and 744.21(e) | 87 FR [INSERT FR PAGE NUMBER] 12/8/22.
| * * * * * *
PAKISTAN | * * * * * *
| Dynamic Engineering Corporation, a.k.a., the following three aliases: —DEC; —Diagnostic Engineering Corporation; and —Scientific Engineering Corporation. | For all items subject to the EAR. (See § 744.11 of the EAR) | See § 744.2(d) of the EAR | 87 FR [INSERT FR PAGE NUMBER 12/8/22].
| Unit No. 312, Al-Amin Tower, NIPA Chowrangi, Main University Road, Karachi, 74000, Pakistan; and E2, Block 10, Chase Centre, Karachi, Pakistan; and 11, 2nd Floor, Jamal Plaza F-10, Islamabad, Pakistan; and Q-27, Block 16/A, Karachi, 74000, Pakistan; and P.O. Box #18781, Q-27, Block 16/A, Karachi, 74000, Pakistan.
| EnerQuip Private, Ltd., Suite 2, 2nd Floor, Nasim Arcade, 1-9, Markaz, Islamabad, Pakistan. | For all items subject to the EAR. (See § 744.11 of the EAR) | See §§ 744.2(d), and 744.3(d) of the EAR | 87 FR [INSERT FR PAGE NUMBER 12/8/22].
| * * * * * *
| NAR Technologies General Trading LLC, a.k.a., the following two aliases: —NAR Technologies; and —Nartechnologies. | For all items subject to the EAR. (See § 744.11 of the EAR) | See §§ 744.2(d), and 744.3(d) of the EAR | 87 FR [INSERT FR PAGE NUMBER 12/8/22].
| Plot. 33 Islamabad City Center, Services Housing Society E-11/2, Islamabad, Pakistan.
| * * * * * *
| Rainbow Solutions, GS Plaza No. 220, 3rd Floor, Hotel View Park, Spring North Commercial, Phase-7, Bahria Town, Islamabad 44000, Pakistan. | For all items subject to the EAR. (See § 744.11 of the EAR) | See §§ 744.2(d), and 744.3(d) of the EAR | 87 FR [INSERT FR PAGE NUMBER 12/8/22].
| * * * * * *
| TROJANS, a.k.a., the following three aliases: —TROJANS Solutions; —TROJANS Pakistan Ltd; and —M/S TROJANS. | For all items subject to the EAR. (See § 744.11 of the EAR) | See §§ 744.2(d), and 744.3(d) of the EAR | 87 FR [INSERT FR PAGE NUMBER 12/8/22].
| House No. 271-A-Street No. 55 Sector F-11/4, Islamabad, Pakistan; and Plot No. 48 Fechs Commercial Area Service Road North Northern Strip Sect E-11/2 44000 Islamabad, Pakistan; and No. 237-C, Faisal Town Lahore, Punjab, 54000, Pakistan; and No. 306-Anum Empire, Block 7/8, K.C.H Society, Main Shahrah-e-Faisal, Kirachi, Sindh,74200, Pakistan; and Plot. 33 Islamabad City Center, Services Housing Society E-11/2, Islamabad, Pakistan; and Block 6, PECHS, Shahrah-e-Faisal Karachi, Sindh 75400, Pakistan. (See alternate address in U.A.E).
| * * * * * *
| Universal Drilling Engineers, 6-Main Water Land Park Road, Melad Chowk Near Saggian Ravi Bridge, Lahore, Pakistan. | For all items subject to the EAR (See § 744.11 of the EAR) | See §§ 744.2(d), and 744.3(d) of this part | 87 FR [INSERT FR PAGE NUMBER 12/8/22].
| * * * * * *
RUSSIA | * * * * * *
| AO Kraftway Corporation PSC, a.k.a., the following three aliases: —Craftway Corporation PLS; —JSC Kraftway Corporation PLS; and —KRAFTVEI KORPOREISHN PLS, AO. | For all items subject to the EAR. (See §§ 734.9(g),³ 744.21(b) and 746.8(a)(3). of the EAR) | Policy of denial for all items subject to the EAR apart from food and medicine designated as EAR99, which will be reviewed on a case-by-case basis. See §§ 746.8(b) and 744.21(e) | 87 FR [INSERT FR PAGE NUMBER 12/8/22].
| 16, 3rd Mytishchinskaya Street, Moscow, 129626, Russia; and 64 Kievskoe Hwy, Obninsk, Kaluga Region, 249032, Russia.
| * * * * * *
| AO PKK Milandr, a.k.a., the following four aliases: —JSC PKK Milandr; —Milandr; —MPK Milandr, OOO; and —PKK Milandr AO. Georgievsky Prospekt, 5, Floor 2, Room 38, Zelenograd, Moscow, 124498, Russia; and Office 38, Premises I, 2nd Floor, 5, Georgievskiy Prospekt, Zelenograd, 124498, Moscow, Russia. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 87 FR [INSERT FR PAGE NUMBER 12/8/22].
| * * * * * *
| AO Scientific Research Center for Electronic Computing, a.k.a., the following eight aliases: —NITsEVT; —NICEVT; —The Research Center for Electronic Computer Engineering (NICEVT); —Joint Stock Company Scientific Research Center for Electronic Computer Engineering (JSC NICEVT); —Scientific Research Center Electronic Computing Techniques; —NITSEVT, PAO; —OAO NICEVT; and —NITSEVT, AO. | For all items subject to the EAR. (See §§ 734.9(g),³ 744.21(b) and 746.8(a)(3). of the EAR) | Policy of denial for all items subject to the EAR apart from food and medicine designated as EAR99, which will be reviewed on a case-by-case basis. See §§ 746.8(b) and 744.21(e) | 87 FR [INSERT FR PAGE NUMBER 12/8/22].
| 125 Varshavskoye Hwy Moscow, 117587, Russia; and 125 Warsaw Highway, Moscow, 117587, Russia.
| * * * * * *
| LLC Fibersense, a.k.a., the following two aliases: —LLC Fibersens; and —OOO Fibersense. 6A Sosnovaya Alley, Building 5, Zelenograd, Moscow, 124489, Russia. | For all items subject to the EAR. (See §§ 734.9(g),³ 744.21(b) and 746.8(a)(3). of the EAR) | Policy of denial for all items subject to the EAR apart from food and medicine designated as EAR99, which will be reviewed on a case-by-case basis. See §§ 746.8(b) and 744.21(e) | 87 FR [INSERT FR PAGE NUMBER 12/8/22].
| * * * * * *
| Milandr EK OOO, Georgievskiy Prospekt, 5, Floor 2, Room 40, Zelenograd, Moscow, 124498, Russia. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 87 FR [INSERT FR PAGE NUMBER 12/8/22].
| Milandr ICC JSC, Office 38, Premises 1, 2nd Floor, 5, Georgievskiy Prospekt, Zelenograd, 124498, Moscow, Russia. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 87 FR [INSERT FR PAGE NUMBER 12/8/22].
| Milur IS, OOO, Georgievskiy Prospekt, 5, Zelenograd, Moscow, 124498, Russia. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 87 FR [INSERT FR PAGE NUMBER 12/8/22].
| * * * * * *
| (OOO) Microelectronic Production Complex (MPK) Milandr, Georgievskiy Prospekt, 5, Floor 3, Room 1, Room 13, Zelenograd, Moscow, 124498, Russia. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 87 FR [INSERT FR PAGE NUMBER 12/8/22].
| * * * * * *
| Ruselectronics JSC, Bldg. 1, 38, Berezhkovskaya Naberezhnaya, Moscow, Russia; and 12 Volkova Kosmonavta Moscow Russia; and Tverskaya, 9, Building 7, Moscow, Russia. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 87 FR [INSERT FR PAGE NUMBER 12/8/22].
| * * * * * *
| Scientific Production Company Optolink, a.k.a., the following six aliases: —Limited Liability Company Research and Production Company Optolink; —OOO NPK Optolink; —LLC RPC Optolink —SPC Optolink; —NPK Optolink LLC; and —Optolink RPC LLC. 6A Sosnovaya Alley, Building 5, Zelenograd, Moscow, 124489, Russia. | For all items subject to the EAR. (See §§ 734.9(g),³ 744.21(b) and 746.8(a)(3). of the EAR) | Policy of denial for all items subject to the EAR apart from food and medicine designated as EAR99, which will be reviewed on a case-by-case basis. See §§ 746.8(b) and 744.21(e) | 87 FR [INSERT FR PAGE NUMBER 12/8/22].
| * * * * * *
SINGAPORE | * * * * * *
| Falcon International Trading Company, Level 39 Marina Bay Financial Center, Tower 2, 10 Marina Boulevard Singapore 018983. | For all items subject to the EAR. (See § 744.11 of the EAR) | Presumption of denial | 87 FR [INSERT FR PAGE NUMBER 12/8/22].
| * * * * * *
| Hawk Electronic Supply Company, Level 39 Marina Bay Financial Center, Tower 2, 10 Marina Boulevard, Singapore 018983. | For all items subject to the EAR. (See § 744.11 of the EAR) | Presumption of denial | 87 FR [INSERT FR PAGE NUMBER 12/8/22].
| * * * * * *
| Merlin Trading Company, a.k.a, the following one alias: —Merlin International Company. | For all items subject to the EAR. (See § 744.11 of the EAR) | Presumption of denial | 87 FR [INSERT FR PAGE NUMBER 12/8/22].
| 195 Upper Paya Lebar Road, Singapore 534873.
| * * * * * *
| Pulse Tech International Company, Level 39 Marina Bay Financial Center, Tower 2, 10 Marina Boulevard, Singapore 018983. | For all items subject to the EAR. (See § 744.11 of the EAR) | Presumption of denial | 87 FR [INSERT FR PAGE NUMBER 12/8/22].
| * * * * * *
SWITZERLAND | * * * * * *
| Milur SA, Chemin des Planches 42, VAUD, AO 1066 Epalinges, Switzerland. | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 87 FR [INSERT FR PAGE NUMBER 12/8/22].
| * * * * * *
UNITED ARAB EMIRATES | * * * * * *
| Enerquip Ltd. (UAE), Office 214, Block B1, Ajman Free Zone, United Arab Emirates. | For all items subject to the EAR. (See § 744.11 of the EAR) | See §§ 744.2(d), and 744.3(d) of this part | 87 FR [INSERT FR PAGE NUMBER 12/8/22].
| * * * * * *
| NAR Technologies General Trading LLC, a.k.a., the following two aliases: —NAR Technologies; and —Nartechnologies. | For all items subject to the EAR. (See § 744.11 of the EAR) | See §§ 744.2(d), and 744.3(d) of this part | 87 FR [INSERT FR PAGE NUMBER 12/8/22].
| 1903 Reef Tower Jumeirah Lake Tower, P.O. Box 122016, Dubai, U.A.E.; and Building R239-1, Plot Number 58-0, Warehouse No. 57, Al Goze Industrial Third, Al Quoz 3, Dubai, U.A.E.; and 404-Royal Plaza, Rigga Street Deira Dunai, P.O. Box No: 181258 Dubai, U.A.E.; and Plot 597/751, Building 2, Dubai Investments Park, P.O. Box 122016 Dubai, U.A.E. (See alternate address in Pakistan).
| * * * * * *
| TROJANS, a.k.a., the following three aliases: —TROJANS Solutions; —TROJANS Pakistan Ltd; and —M/S TROJANS. | For all items subject to the EAR. (See § 744.11 of the EAR) | See §§ 744.2(d), and 744.3(d) of this part | 87 FR [INSERT FR PAGE NUMBER 12/8/22].
| 1903 Reef Tower, Jumeirah Lakes Tower Dubai, U.A.E. (See alternate address in Pakistan).
| * * * * * *
| Zain Enterprises FZE, Business Center, A1 Shmookh Building, P.O. Box 3-28612, Sharjah, U.A.E. | For all items subject to the EAR. (See § 744.11 of the EAR) | See §§ 744.2(d), and 744.3(d) of this part | 87 FR [INSERT FR PAGE NUMBER 12/8/22].
* * * * * * *

* * * * *

Thea D. Rozman Kendler,
Assistant Secretary for Export Administration.

[FR Doc. 2022-26622 Filed 12-7-22; 8:45 am]

BILLING CODE 3510-33-P